FEDERAL COMMUNICATIONS COMMISSION

47 CFR Part 2

[WT Docket No. 19-348; DA 24-233; FRS 221855]

Facilitating Shared Use in the 3100-3550 MHz Band; Correction

AGENCY: Federal Communications Commission.

ACTION: Correcting amendment.

SUMMARY: The Federal Communications Commission published a document in the Federal Register of March 25, 2024, concerning a non-substantive, editorial revision made by the Wireless Telecommunication Bureau and the Office of Engineering and Technology (WTB/OET) to the Table of Frequency Allocations in the Commission's Rules (table 22), which identifies coordinates for Department of Defense Cooperative Planning Areas (CPAs) and Periodic Use Areas (PUAs). WTB/OET deleted as redundant, the Norfolk, Virginia Cooperative Planning Area (Norfolk CPA) from the list of CPAs and PUA's in table 22, and renamed the Norfolk CPA, the Newport News-Norfolk CPA/PUA. This document deletes another redundant entry in table 22.

DATES: Effective May 31, 2024.

FOR FURTHER INFORMATION CONTACT: Thomas Reed, Wireless Telecommunications Bureau, Mobility Division, (202) 418-0531 or Thomas.reed@fcc.gov. For information regarding the PRA information collection requirements, contact Cathy Williams, Office of Managing Director, at 202-418-2918 or cathy.williams@fcc.gov.

SUPPLEMENTARY INFORMATION:

Correction

In the Federal Register of March 25, 2024, 89 FR 20548, WTB/OET attempted to make a non-substantive, editorial revision to § 2.106(c)(431), table 22, deleting the Norfolk CPA from the list of CPAs and PUAs and renaming the Newport News CPA/PUA as the “Newport News-Norfolk CPA/PUA.” The document contained an incorrect instruction regarding the revision to table 22, and the amendments couldn't be incorporated. In the Federal Register of April 4, 2024, 89 FR 23527, the instruction was corrected, and the amendments incorporated into the CFR. This document removes as redundant the entry “Newport News *”.

List of Subjects in 47 CFR Part 2

Administrative practice and procedures, Common carriers, Communications, Communications common carriers, Communications equipment, Disaster assistance, Environmental impact statements, Imports, Radio, Reporting and recordkeeping requirements, Satellites, Telecommunications, Television, Wiretapping and electronic surveillance.

For the reasons discussed in the preamble, the Federal Communications Commission corrects 47 CFR part 2 by making the following correcting amendment:

PART 2—FREQUENCY ALLOCATIONS AND RADIO TREATY MATTERS; GENERAL RULES AND REGULATIONS

1. The authority citation for part 2 continues to read as follows:

Authority: 47 U.S.C. 154, 302a, 303, and 336, unless otherwise noted.

§ 2.106 [Amended]

2. In § 2.106, in paragraph (c)(431), amend table 22 by removing the entry “Newport News *”.

Dated: May 21, 2024.
Amy Brett,
Chief of Staff, Wireless Telecommunications Bureau.

[FR Doc. 2024-11744 Filed 5-30-24; 8:45 am]

BILLING CODE 6712-01-P